SOCIAL SECURITY ADMINISTRATION

Agency Information Collection Activities: Proposed Request and Comment Request

The Social Security Administration (SSA) publishes a list of information collection packages that will require clearance by the Office of Management and Budget (OMB) in compliance with Public Law 104-13, the Paperwork Reduction Act of 1995, effective October 1, 1995. The information collection packages that may be included in this notice are for new information collections, approval of existing information collections, revisions to OMB-approved information collections, and extensions (no change) of OMB-approved information collections.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the OMB Desk Officer and the SSA Reports Clearance Officer. The information can be mailed and/or faxed to the individuals at the addresses and fax numbers listed below:

(OMB), Office of Management and Budget, Attn: Desk Officer for SSA, New Executive Building, Room 10235, 725 17th St., NW., Washington, DC 20503. Fax: 202-395-6974.

(SSA), Social Security Administration, DCFAM, Attn: Reports Clearance Officer, 1333 Annex Building, 6401 Security Blvd., Baltimore, MD 21235. Fax: 410-965-6400.

I. The information collections listed below are pending at SSA and will be submitted to OMB within 60 days from the date of this notice. Therefore, your comments should be submitted to SSA within 60 days from the date of this publication. You can obtain copies of the collection instruments by calling the SSA Reports Clearance Officer at 410-965-0454 or by writing to the address listed above.

1. Report on Individual with Mental Impairment—20 CFR 404.1513, 416.913—0960-0058. Form SSA-824 is used by SSA to determine the claimant's medical status prior to making a disability determination. The respondents are physicians, medical directors, medical record librarians and other health professionals.

Type of Request: Extension of an OMB-approved information collection.

Number of Respondents: 50,000.

Frequency of Response: 1.

Average Burden Per Response: 36 minutes.

Estimated Annual Burden: 30,000 hours

2. Supplement to Claim of Person Outside the United States—20 CFR 404.460, 404.463, 422.505(b), 42 CFR 407.27(c)—0960-0051. The information collected on Form SSA-21 is used to determine the continuing entitlement to Social Security benefits and the proper benefit amounts of beneficiaries living outside the United States. It is also used to determine whether benefits are subject to withholding tax. The respondents are individuals entitled to Social Security benefits who are, will be, or have been residing outside the United States.

Type of Request: Revision of an OMB-approved information collection.

Number of Respondents: 35,000.

Frequency of Response: 1.

Average Burden Per Response: 10 minutes.

Estimated Annual Burden: 5,833 hours.

3. Claimant's Work Background—20 CFR 404.1565(b), 416.965(b)—0960-0300. The information collected on Form HA-4633 is needed and used to afford claimants their statutory right to a hearing and decision under the Social Security Act (the Act). The information is used by the SSA in cases in which claimants for disability benefits have requested a hearing on the determination regarding their claim. A completed form provides an updated summary of a claimant's past relevant work and helps the administrative law judge to better decide whether or not the claimant is disabled. The respondents are claimants requesting hearings for benefits based on disability under Titles II and/or XVI of the Act.

Type of Request: Extension of an OMB-approved information collection.

Number of Respondents: 120,000.

Frequency of Response: 1.

Average Burden Per Response: 15 minutes.

Estimated Annual Burden: 30,000 hours.

4. Medical Report on Adult with Allegation of Human Immunodeficiency Virus (HIV) Infection; Medical Report on Child with Allegation of Human Immunodeficiency Virus (HIV) Infection—20 CFR 416.993-416.994—0960-0500. Collection of the information on Forms SSA-4814-F5 and SSA-4815-F6 is necessary for SSA to determine if an individual with Human Immunodeficiency Virus (HIV) infection meets the requirements for presumptive disability (PD) payments. The SSA Field Office (FO) will, generally, mail the appropriate form to the claimant's medical source for completion and return to the FO. The FO staff will use the information on the form to determine if a PD is warranted. The respondents are the medical sources of the applicants for Supplemental Security Income (SSI) disability payments.

Type of Request: Extension of an OMB-approved information collection.

Number of Respondents: 59,100.

Frequency of Response: 1.

Average Burden Per Response: 10 minutes.

Estimated Annual Burden: 9,850 hours.

5. Coverage of Employees of State and Local Governments—20 CFR 404, Subpart M—0960-0425. States (and Interstate Instrumentalities) are required to provide wage information and deposit related contributions for pre-1987 periods to SSA. The regulations at 20 CFR 404, Subpart M set forth the rules for States submitting reports of deposits and related recordkeeping. The respondents are State and Local Governments or Interstate Instrumentalities.

Type of Request: Extension of an OMB-approved information collection.

Number of Respondents: 52.

Frequency of Response: 1.

Average Burden Per Response: 1 hour.

Estimated Annual Burden: 52 hours.

6. Information Collection Requirements for Title VIII of the Social Security Act—20 CFR 408.202(d), 408.210, 408.230(a), 408.232(a), 408.320, 408.305, 408.310, 408.315, 408.340, 408.345, 408.351(d) and (f), 408.355(a), 408.360(a), 408.404(c), 408.410, 408.412, 408.420(a) and (b), 408.430, 408.432, 408.435(a) and (b), 408.437(b), (c) and (d)—0960-0658. Section 251 of the “Foster Care Independence Act of 1999” added Title VIII to the Social Security Act (Special Benefits for Certain World War II Veterans). Title VIII allows, under certain circumstances, the payment of a monthly benefit by Social Security to a qualified World War II veteran who resides outside the United States. The accompanying regulations set out the requirements an individual must meet in order to qualify for and become entitled to Special Veterans Benefits (SVB). The respondents are individuals who are applying for benefits under Title VIII of the Social Security Act.

Type of Request: Extension of an OMB-approved information collection.

Number of Respondents: 762.

Frequency of Response: 1.

Average Burden Per Response: 30 minutes.

Estimated Annual Burden: 381 hours.

7. SSI Notice of Interim Assistance Reimbursement (IAR)—0960-0546. Forms SSA-8125 and SSA-L8125-F6 are used by SSA to obtain the amount of Interim Assistance Reimbursement (IAR) a State is due before it can pay IAR to the State in various situations. These forms are used for that purpose, and to conduct audits of a State's accounting of IAR. Respondents are State IAR officers.

Type of Request: Extension of an OMB-approved information collection.

Number of Respondents: 50,000.

Frequency of Response: 1.

Average Burden Per Response: 10 minutes.

Estimated Annual Burden: 8,333 hours.

II. The information collections listed below have been submitted to OMB for clearance. Your comments on the information collections would be most useful if received by OMB and SSA within 30 days from the date of this publication. You can obtain a copy of the OMB clearance packages by calling the SSA Reports Clearance Officer at 410-965-0454, or by writing to the address listed above.

1. Marriage Certification—20 CFR 404.725—0960-0009. When the worker and spouse are not filing concurrently, SSA uses Form SSA-3-F6 to record any changes/additions to the worker's marital history since the worker's claim was adjudicated. The marital history of the claimant's wife or husband, when compared to the worker's marital history (as supplemented by Form SSA-3-F6), enables the fact finder to determine if the claimant has the necessary relationship to the worker. Where the spouse and worker were ceremonially married, the worker's statement on his/her marital history that he/she was ceremonially married to the claimant's spouse and the claimant's spouse statement that he/she was ceremonially married to the worker generally constitute evidence of a ceremonial marriage in lieu of obtaining a marriage certificate.

Type of Request: Extension of an OMB-approved information collection.

Number of Respondents: 180,000.

Frequency of Response: 1.

Average Burden Per Response: 5 minutes.

Estimated Annual Burden: 15,000 hours.

2. Request To Be Selected As Payee—0960-0014. The information collected on form SSA-11-BK is necessary to determine the proper payee for a Social Security beneficiary. The form is designed to aid the investigation of a payee applicant. The use of the form will establish the applicant's relationship to the beneficiary, his/her justification and his/her concern for the beneficiary, as well as the manner in which the benefits will be used.

Type of Request: Revision of an OMB-approved information collection.

Number of Respondents: 2,121,686.

Frequency of Response: 1.

Average Burden Per Response: 10.5 minutes.

Estimated Annual Burden: 371,295 hours.

3. Record of SSI Inquiry—20 CFR 416.345—0960-0140. Form SSA-3462 is completed by SSA personnel via telephone or personal interview, and it is used to determine potential eligibility for SSI benefits. The respondents are individuals who inquire about SSI eligibility for themselves or someone else.

Type of Request: Extension of an OMB-approved information collection.

Number of Respondents: 2,134,100.

Frequency of Response: 1.

Average Burden Per Response: 5 minutes.

Estimated Annual Burden: 177,842 hours.

4. Statement for Determining Continuing Eligibility for Supplemental Security Income Payments—Adult, Form SSA-3988; Statement for Determining Continuing Eligibility for Supplemental Security Income Payments—Child, Form SSA-3989—20 CFR Subpart B—416.204-0960—NEW.

Background

The Social Security Act mandates periodic redeterminations of non-medical factors relating to SSI recipient's continuing eligibility for SSI payments. SSA studies have indicated that as many as two-thirds of these scheduled redeterminations, which are completed with the assistance of an SSA employee, do not result in any change in circumstances that affects the recipients payment. SSA has conducted extensive testing of both of the SSA-3988 and SSA-3989, under OMB Control Number 0960-0643, and has validated that these redetermination formats result in significant operational savings and a decrease in recipient inconvenience while still obtaining timely, accurate data to determine continuing eligibility through the process.

The Collection

Forms SSA-3988 and SSA-3989 will be used to determine whether SSI recipients have met and continue to meet all statutory and regulatory non-medical requirements for SSI eligibility, and whether they have been and are still receiving the correct payment amount. The SSA-3988 and SSA-3989 are designed as self-help forms that will be mailed to recipients or to their representative payees for completion and return to SSA. The respondents are recipients of SSI payments or their representatives.

Type of Request: New information collection.

Forms | Respondents | Frequency of response | Average burden per response (minutes) | Estimated annual burden (hours)
SSA-3988 | 650,000 | 1 | 26 | 281,667
SSA-3989 | 65,000 | 1 | 26 | 28,167

5. Denial of Title II Benefits to Fugitive Felons—0960-New. Specifically, Section 203 of the SSPA prohibits payment of title II benefits:

• To persons fleeing to avoid prosecution or custody or confinement after conviction, under the laws of the place from which the person flees, for a crime, or an attempt to commit a crime, which is a felony under the laws of the place from which the person flees; or

• In jurisdictions that do not define crimes as felonies, where the crime is punishable by death or imprisonment for a term exceeding 1 year regardless of the actual sentence imposed; and

• To persons violating a condition of probation or parole imposed under Federal or State law.

To identify claimants who should not be receiving benefits, the Commissioner directed that we add specific questions to title II applications that solicit information about any outstanding felony warrants or warrants for parole/probation violations.

In addition, SSA will collect supplemental information if a claimant responds affirmatively to either or both of the two fugitive felon questions on title II applications, thereby indicating that they have an unsatisfied warrant. Answers to these questions will be used to verify that a warrant is still outstanding. An SSA claims representative will contact beneficiaries by telephone to collect the information. Respondents will be claimants for benefits who indicated on their application that they have an unsatisfied warrant.

Type of Request: New information collection.

Number of Respondents: 10,000.

Frequency of Response: 1.

Average Burden Per Response: 8 minutes.

Estimated Annual Burden: 1,333 hours.

Dated: August 17, 2005.
Elizabeth A. Davidson,
Reports Clearance Officer, Social Security Administration.

[FR Doc. 05-16660 Filed 8-22-05; 8:45 am]

BILLING CODE 4191-02-P